INTERNATIONAL TRADE COMMISSION

[Investigation Nos. 701-TA-775 and 731-TA-1759-1760 (Preliminary)]

Freight Rail Couplers and Parts Thereof From Czech Republic and India; Determinations

On the basis of the record ¹ developed in the subject investigations, the United States International Trade Commission (“Commission”) determines, pursuant to the Tariff Act of 1930 (“the Act”), that there is a reasonable indication that an industry in the United States is threatened with material injury by reason of imports of freight rail couplers and parts thereof (“freight rail couplers”) from Czech Republic and India, provided for in subheading 8607.30.10 of the Harmonized Tariff Schedule of the United States, that are alleged to be sold in the United States at less than fair value (“LTFV”) and imports of the subject merchandise from India that are alleged to be subsidized by the government of India.²

¹ The record is defined in § 207.2(f) of the Commission's Rules of Practice and Procedure (19 CFR 207.2(f)).

² 90 FR 40055 and 90 FR 40059 (August 18, 2025).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Any other party may file an entry of appearance for the final phase of the investigations after publication of the final phase notice of scheduling. Industrial users, and, if the merchandise under investigation is sold at the retail level, representative consumer organizations have the right to appear as parties in Commission antidumping and countervailing duty investigations. The Secretary will prepare a public service list containing the names and addresses of all persons, or their representatives, who are parties to the investigations. As provided in section 207.20 of the Commission's rules, the Director of the Office of Investigations will circulate draft questionnaires for the final phase of the investigations to parties to the investigations, placing copies on the Commission's Electronic Document Information System (EDIS, https://edis.usitc.gov), for comment.

Background

On July 23, 2025, the Coalition of Freight Coupler Producers, comprised of McConway & Torley LLC, Pittsburgh, Pennsylvania, and the United Steel, Paper and Forestry, Rubber, Manufacturing, Energy, Allied Industrial and Service Workers International Union, Pittsburgh, Pennsylvania, filed petitions with the Commission and Commerce, alleging that an industry in the United States is materially injured or threatened with material injury by reason of subsidized imports of freight rail couplers from India and LTFV imports of freight rail couplers from Czech Republic and India. Accordingly, effective July 23, 2025, the Commission instituted countervailing duty investigation Nos. 701-TA-775 and antidumping duty investigation Nos. 731-TA-1759-1760 (Preliminary).

Notice of the institution of the Commission's investigations and of a public conference to be held in connection therewith was given by posting copies of the notice in the Office of the Secretary, U.S. International Trade Commission, Washington, DC, and by publishing the notice in the Federal Register of July 29, 2025 (90 FR 35734). The Commission conducted its conference on August 13, 2025. All persons who requested the opportunity were permitted to participate.

The Commission made these determinations pursuant to §§ 703(a) and 733(a) of the Act (19 U.S.C. 1671b(a) and 1673b(a)). It completed and filed its determinations in these investigations on September 8, 2025. The views of the Commission are contained in USITC Publication 5670 (September 2025), entitled Freight Rail Couplers and Parts Thereof from Czech Republic and India: Investigation Nos. 701-TA-775 and 731-TA-1759-1760 (Preliminary).

By order of the Commission.
Issued: September 8, 2025.
Sharon Bellamy,
Supervisory and Hearings and Information Officer.

[FR Doc. 2025-17569 Filed 9-10-25; 8:45 am]

BILLING CODE 7020-02-P